NATIONAL MEDIATION BOARD

5 CFR Chapter CI

[Docket No. C-7188]

RIN 3209-AA47

Supplemental Standards of Ethical Conduct for Employees of the National Mediation Board

AGENCY: National Mediation Board.

ACTION: Final rule.

SUMMARY: The National Mediation Board (NMB or Board), with the concurrence of the U.S. Office of Government Ethics (OGE), is issuing a final rule for employees of the NMB that supplements the executive branch-wide Standards of Ethical Conduct (Standards) issued by OGE. The supplemental regulation requires NMB employees to obtain approval before engaging in outside employment.

DATES: This final rule is effective May 29, 2019.

FOR FURTHER INFORMATION CONTACT: Mary Johnson, General Counsel, National Mediation Board, 202-692-5050, infoline@nmb.gov.

SUPPLEMENTARY INFORMATION:

I. Background

On November 1, 2018, the NMB, with OGE's concurrence, published an interim final rule in the Federal Register, 83 FR 54861, adopting agency-specific supplemental regulations requiring NMB employees to obtain approval before engaging in outside employment. The interim final rule provided a 60 day comment period, which ended on December 31, 2018. The NMB did not receive any comments. The rationale for the interim final rule, which the NMB is now adopting as final, is explained in the preamble at: https://www.federalregister.gov/documents/2018/11/01/2018-23548/supplemental-standards-of-ethical-conduct-for-employees-of-the-national-mediation-board.

II. Matters of Regulatory Procedure

Executive Order 12866

This rule is not a significant rule for purposes of Executive Order 12866 and has not been reviewed by the Office of Management and Budget.

Regulatory Flexibility Act

As required by the Regulatory Flexibility Act, the NMB certifies that these regulatory changes will not have a significant impact on small business entities. This rule will not have any significant impact on the quality of the human environment under the National Environmental Policy Act.

Paperwork Reduction Act

The NMB has determined that the Paperwork Reduction Act does not apply because this regulation does not contain any information collection requirements that require the approval of the Office of Management and Budget.

List of Subjects in 5 CFR Part 10101

Conflicts of interests, Government employees.

Dated: May 1, 2019.
By direction of the Board.
Mary Johnson,
General Counsel, National Mediation Board.
Emory A. Rounds, III,
Director, U.S. Office of Government Ethics.

Chapter CI—National Mediation Board

PART 10101—SUPPLEMENTAL STANDARDS OF ETHICAL CONDUCT FOR EMPLOYEES OF THE NATIONAL MEDIATION BOARD

Accordingly, the interim rule adding 5 CFR chapter CI, consisting of part 10101, which was published at 83 FR 54861 on November 1, 2018, is adopted as final without change.

[FR Doc. 2019-11163 Filed 5-28-19; 8:45 am]

BILLING CODE 7550-01-P